DEPARTMENT OF THE INTERIOR

Bureau of Land Management

[(LLCAD06000.51010000.ER0000.LVRWB19B5120.19X5017AP) CACA51967 (MO# 4500135522)]

Notice of Availability of the Crimson Solar Project Draft Environmental Impact Statement and Environmental Impact Report and Draft Land Use Plan Amendment to the California Desert Conservation Area Plan

AGENCY: Bureau of Land Management, Interior.

ACTION: Notice of availability.

SUMMARY: In accordance with the National Environmental Policy Act (NEPA) of 1969, as amended, and the Federal Land Policy and Management Act of 1976, as amended, the Bureau of Land Management (BLM) has prepared a Draft Environmental Impact Statement (EIS), Environmental Impact Report (EIR), and draft Land Use Plan Amendment to the California Desert Conservation Area Plan (CDCA) for the Crimson Solar Project (Project), and by this notice is announcing the opening of the 90-day public comment period.

DATES: To ensure that all comments will be considered, the BLM must receive written comments on the draft plan amendment and Draft EIS/EIR within 90 days following the date the Environmental Protection Agency (EPA) publishes its Notice of Availability in the Federal Register. The BLM will announce future meetings and any other public involvement activities at least 15 days in advance through public notices, news releases, the project website, and/or mailings.

ADDRESSES: The public may submit comments related to the project during the public comment period by using any of the following methods:

• Website: https://bit.ly/2xntD5u

• Email: blm_ca_crimsonsolar@blm.gov

• Mail: Crimson Solar Project, Bureau of Land Management Palm Springs-South Coast Field Office, 1201 Bird Center Drive, Palm Springs, CA 92262

Copies of the Draft EIS/EIR and draft plan amendment are available at the BLM-Palm Springs-South Coast Field Office at the above address and at the BLM California Desert District Office, 22835 Calle San Juan De Los Lagos, Moreno Valley, CA 92553, and electronically on the project website referenced earlier.

FOR FURTHER INFORMATION CONTACT: Miriam Liberatore, BLM project manager, telephone: (541) 618-2412; email: mliberat@blm.gov; address Bureau of Land Management, 3040 Biddle Road, Medford, OR 97504.

Persons who use a telecommunication device for the deaf may call the Federal Relay Service (FRS) at 1-800-877-8339 to contact Ms. Liberatore during normal business hours. The FRS is available 24 hours a day, 7 days a week, to leave a message or questions. You will receive a reply during normal business hours.

SUPPLEMENTARY INFORMATION: Sonoran West Solar Holdings LLC (the Applicant), a wholly owned subsidiary of Recurrent Energy LLC, applied for a right-of-way (ROW) grant for a photovoltaic solar project with the BLM. The applicant proposes to construct, operate, maintain, and decommission a maximum 350-megawatt solar photovoltaic facility with integrated battery storage and necessary ancillary facilities, including project substations, access roads, operations and maintenance buildings, and lay down areas. The proposed project includes 2,500 acres of BLM-administered land in the Riverside East Solar Energy Zone.

The BLM is the lead NEPA agency and will make Federal decisions regarding the proposed plan amendment and the ROW for the Project. The U.S. Fish and Wildlife Service is a Cooperating Agency and will issue a Biological Opinion for the project. The EPA (Region 9) is a Cooperating Agency, but does not have a direct permitting role in the project. The California Department of Fish and Wildlife is the lead agency under the California Environmental Quality Act (CEQA) and will make State decisions on applications filed by the Applicant for an Incidental Take Permit and a Lake and Streambed Alteration Agreement. This Draft EIS/EIR was prepared as a joint Federal/State environmental document that analyzes the impacts of the project under both NEPA and CEQA.

In addition to the proposed action (Alternative A), the Draft EIS/EIR considers a no action alternative and two action alternatives. Alternative B, Alternative Design, would include one or more of three design elements to reduce grading, trenching, and vegetation removal during construction. Alternative C, Reduced Acreage Alternative, would be the same as described under Alternative A in the number and size of project-related facilities, but the project area would be reduced by about 300 acres. All alternatives would amend the CDCA plan to allow the project. Alternative C is the BLM preferred alternative.

Public input on these alternatives or other issues is important and will be considered in the Final EIR/EIS.

Please note that public comments and information submitted, including names, street addresses, and email addresses of persons who submit comments, will be available for public review and disclosure at the address listed in the ADDRESSES section during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Danielle Chi,
Deputy State Director, Resources.

[FR Doc. 2019-23825 Filed 10-31-19; 8:45 am]

BILLING CODE 4310-40-P